DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons and these vessels, are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On April 5, 2019, OFAC determined that the property and interests in property subject to U.S. jurisdiction of the following persons and the following vessels subject to U.S. jurisdiction are blocked under the relevant sanctions authorities listed below.

Entities

1. BALLITO BAY SHIPPING INCORPORATED (a.k.a. BALLITO BAY SHIPPING INC), 80 Broad Street, Monrovia, Liberia; Identification Number IMO 5804961 [VENEZUELA-EO13850].

Designated pursuant to section 1(a)(i) of Executive Order 13850 of November 1, 2018, “Blocking Property of Additional Persons Contributing to the Situation in Venezuela,” as amended by Executive Order 13857, “Taking Additional Steps to Address the National Emergency with Respect to Venezuela,” of January 25, 2019 (“E.O. 13850”), for operating in the oil sector of the Venezuelan economy.

2. PROPER IN MANAGEMENT INCORPORATED (a.k.a. PROPER IN MANAGEMENT INC), 2, Gounari Street, Piraeus, Athens 185 31, Greece; 2 D Gounari Street, Piraeus, Greece; Identification Number IMO 5766343 [VENEZUELA-EO13850].

Designated pursuant to section 1(a)(i) of E.O. 13850 for operating in the oil sector of the Venezuelan economy.

Vessels

1. BICENTENARIO I Tug Venezuela flag; Vessel Registration Identification IMO 9584762 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

2. BICENTENARIO II Tug Venezuela flag; Vessel Registration Identification IMO 9513323 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

3. BICENTENARIO III Tug Venezuela flag; Vessel Registration Identification IMO 9585819 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

4. BICENTENARIO IV Tug Venezuela flag; Vessel Registration Identification IMO 9556947 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

5. BICENTENARIO IX Tug Venezuela flag; Vessel Registration Identification IMO 9557915 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

6. BICENTENARIO V Tug Venezuela flag; Vessel Registration Identification IMO 9542518 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

7. BICENTENARIO VI Tug Venezuela flag; Vessel Registration Identification IMO 9557549 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

8. BICENTENARIO VII Tug Venezuela flag; Vessel Registration Identification IMO 9588990 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

9. BICENTENARIO VIII Tug Venezuela flag; Vessel Registration Identification IMO 9564695 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

10. BICENTENARIO X Tug Venezuela flag; Vessel Registration Identification IMO 9564126 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

11. BICENTENARIO XI Tug Venezuela flag; Vessel Registration Identification IMO 9513311 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

12. BICENTENARIO XII Tug Venezuela flag; Vessel Registration Identification IMO 9513282 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

13. BICENTENARIO XIII Tug Venezuela flag; Vessel Registration Identification IMO 9513294 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

14. BICENTENARIO XIV Tug Venezuela flag; Vessel Registration Identification IMO 9513270 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

15. BICENTENARIO XV Tug Venezuela flag; Vessel Registration Identification IMO 9513268 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

16. BICENTENARIO XVI Tug Venezuela flag; Vessel Registration Identification IMO 9513309 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

17. DESPINA ANDRIANNA Crude Oil Tanker Liberia flag; Vessel Registration Identification IMO 9182667 (vessel) [VENEZUELA-EO13850] (Linked To: BALLITO BAY SHIPPING INCORPORATED).

Identified pursuant to E.O. 13850 as property in which BALLITO BAY SHIPPING INCORPORATED, a person whose property and interested in property are blocked pursuant to E.O. 13850, has an interest.

18. AMAPOLA 1 Tug Venezuela flag; Vessel Registration Identification IMO 9717357 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

19. AMUAY Tug Venezuela flag; Vessel Registration Identification IMO 9432658 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

20. CARIBE Tug Venezuela flag; Vessel Registration Identification IMO 9540895 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

21. CAYAURIMA Tug Venezuela flag; Vessel Registration Identification IMO 9688805 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

22. CUMANAGOTO Tug Venezuela flag; Vessel Registration Identification IMO 9540883 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

23. GARDENIA Tug Panama flag; Vessel Registration Identification IMO 9739898 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

24. GP-21 Drilling Ship Venezuela flag; Vessel Registration Identification IMO 8767953 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

25. GP-23 Drilling Ship Venezuela flag; Vessel Registration Identification IMO 8767977 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

26. JAZMIN Tug Venezuela flag; Vessel Registration Identification IMO 9662643 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

27. L-409 Drilling Ship Venezuela flag; Vessel Registration Identification IMO 8772049 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

28. MANAURE Tug Venezuela flag; Vessel Registration Identification IMO 9670987 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

29. MARA Tug Venezuela flag; Vessel Registration Identification IMO 9670999 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

30. MARGARITA 1 Tug Venezuela flag; Vessel Registration Identification IMO 9671668 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

31. PDVSA CARDON Tug Venezuela flag; Vessel Registration Identification IMO 9432660 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

32. SABANETA Tug Venezuela flag; Vessel Registration Identification IMO 9667813 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

33. TRIBILIN Tug Venezuela flag; Vessel Registration Identification IMO 9693240 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

34. URDANETA Tug Venezuela flag; Vessel Registration Identification IMO 7912111 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

35. YORACO Tug Venezuela flag; Vessel Registration Identification IMO 9688790 (vessel) [VENEZUELA-EO13850] (Linked To: PETROLEOS DE VENEZUELA, S.A.).

Identified pursuant to E.O. 13850 as property in which PETROLEOS DE VENEZUELA, S.A., a person whose property and interested in property are blocked pursuant to E.O. 13850, has an interest.

Dated: May 15, 2019.
Andrea Gacki,
Director, Office of Foreign Assets Control.

[FR Doc. 2019-11024 Filed 5-24-19; 8:45 am]

BILLING CODE 4810-AL-P